DEPARTMENT OF TRANSPORTATION

Federal Railroad Administration

[Docket Number FRA-2020-0092]

Petition for Waiver of Compliance

Under part 211 of title 49 of the Code of Federal Regulations (CFR), this document provides the public notice that on November 12, 2020, the Southeastern Pennsylvania Transportation Authority (SEPTA) petitioned the Federal Railroad Administration (FRA) for a waiver of compliance from certain provisions of the Federal railroad safety regulations contained at 49 CFR part 238, Passenger Equipment Safety Standards. FRA assigned the petition Docket Number FRA-2020-0092.

Specifically, SEPTA requests relief from 49 CFR 238.131, Exterior side door safety systems—new passenger cars and locomotives used in passenger service, and 49 CFR 238.133, Exterior side door safety systems—all passenger cars and locomotives used in a passenger service, as they pertain to the exterior side door safety system interface with the Siemens ACS-64 “Sprinter” electric locomotives. SEPTA notes the ACS-64 “Sprinter” locomotive uses similar operating controls and software to the SC-44 “Charger” diesel-electric locomotives, for which FRA granted relief in Docket Number FRA-2018-0029.

SEPTA proposes installing similar software in the ACS-64 locomotives, as that developed for the SC-44, to allow such locomotives to be operated in “Yard Mode.” When “Yard Mode” is activated, it allows low speed operation of the locomotive without activating the door by-pass device. The “Yard Mode” software monitors the door summary circuit trainline, along with other trainlines and locomotive operating parameters, determining whether the locomotive is operating in a lite consist (locomotives only) or a passenger car consist. This solution involves multi-step software verification along with multiple deliberate acts and confirmations by an operator to enable “Yard Mode.” When “Yard Mode” is active, the locomotive may not be operated above 10 miles per hour.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave., SE, W12-140, Washington, DC 20590.

• Hand Delivery: 1200 New Jersey Ave. SE, Room W12-140, Washington, DC 20590, between 9 a.m. and 5 p.m., Monday through Friday, except Federal Holidays.

Communications received by January 25, 2021 will be considered by FRA before final action is taken. Comments received after that date will be considered as far as practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-27270 Filed 12-10-20; 8:45 am]

BILLING CODE 4910-06-P